DEPARTMENT OF TRANSPORTATION

Surface Transportation Board

[Finance Docket No. 34040]

Riverview Trenton Railroad Company—Acquisition and Operation—In Wayne County, MI

AGENCY: Surface Transportation Board.

ACTION: Notice of extended comment period.

SUMMARY: The Riverview Trenton Railroad Company (RTRR) has petitioned the Surface Transportation Board (Board) for authority to acquire and operate a rail line approximately 1.5 miles in length in Wayne County, Michigan, to serve a proposed intermodal facility. The Board's Section of Environmental Analysis (SEA) served an environmental assessment (EA) for public review and comment on this project on October 15, 2001. Comments were originally due by November 14, 2001. Due to recent events involving a principal postal facility in Washington, DC, timely receipt of materials mailed to the Board has been disrupted. The Board has therefore decided to extend the comment period until November 26, 2001. SEA requests that individuals filing comments, as well as individuals who have previously filed comments regarding this EA, take the following additional steps to ensure receipt of their correspondence during the comment period:

1. Telephone or e-mail the environmental contact prior to the close of the comment period and inform them that you have mailed a comment.

2. If the comment has not been received, the environmental contact will discuss alternative modes of delivery.

3. Retain a copy of your comment for your records should alternative modes of delivery be necessary.

SEA is committed to carrying out its duties to the public and regrets any inconvenience these new procedures may cause.

DATES: Comment period extended to November 26, 2001.

ADDRESSES: Comments (an original and 10 copies) regarding this EA should be submitted in writing to: Section of Environmental Analysis, Surface Transportation Board, 1925 K Street, NW., Washington, DC 20423, to the attention of Kenneth Blodgett.

FOR FURTHER INFORMATION CONTACT: Kenneth Blodgett, (202) 565-1554 (TDD for the hearing impaired (1-800-877-83439). To obtain a copy of the EA, contact Da-2-Da Legal at 1925 K Street, NW., Room 405, Washington, DC 20006, phone (202) 293-7776 or visit the Board's website at “www.stb.dot.gov”.

By the Board, Victoria Rutson, Chief, Section of Environmental Analysis.
Vernon A. Williams,
Secretary.

[FR Doc. 01-28725 Filed 11-15-01; 8:45 am]

BILLING CODE 4915-00-P